DEPARTMENT OF COMMERCE

International Trade Administration

North American Free-Trade Agreement (NAFTA), Article 1904 NAFTA Panel Reviews; Decision of the Panel

AGENCY: NAFTA secretariat, United States Section, International Trade Administration, Department of Commerce.

ACTION: Notice of decision of NAFTA Panel.

SUMMARY: On March 10, 2005, the NAFTA Panel issued its decision in the matter of Certain Durum Wheat and Hard Red Spring Wheat CVD determination from Canada, Secretariat File No. USA-CDA-2003-1904-05.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumpting and countervailing duty cases involving imports from a NAFTA country with review by independent binational panels. When a Request for Panel Review is filed, a panel is established to act in place of national courts to review expeditiously the final determination to determine whether it conforms with the antidumpting or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was conducted in accordance with these Rules.

Background Information: On October 3, 2003, the Government of Canada filed a First Request for Panel Review with the United States Section of the NAFTA Secretariat pursuant to Article 1904 of the North American Free Trade Agreement. Second requests were filed on behalf of the Canadian Wheat Board, the Government of Saskatchewan, and the Government of Alberta, respectively. Panel review was requested of the final affirmative Countervailing Duty determination made by the United States Department of Commerce, International Trade Administration, respecting Certain Durum Wheat and Hard Red Spring Wheat from Canada. This determination was published in the Federal Register, (68 FR 52747) on September 5, 2003. The NAFTA Secretariat assigned Case Number USA-CDA-2003-1904-05 to this request.

Panel Decision: The Panel affirmed in part and remanded in part. The panel determined that:

(1) The Commission's findings and determinations concerning the comprehensive financial risk coverage program are not in accordance with law and remanded this issue to the Commission for action consistent with its opinion;

(2) The Panel upheld the Commission's findings and determinations concerning the provision of government-owned and leased railcars in all respects and dismiss the appeal on this issue.

The Panel ordered the Commission to issue a determination on remand consistent with the instructions set forth in the Panel's decision within 90 days of the decision or not later than June 8, 2005.

Dated: March 14, 2005.
Caratina L. Alston,
United States Secretary, NAFTA Secretariat.

[FR Doc. 05-5358 Filed 3-17-05; 8:45 am]

BILLING CODE 3510-GT-M